DEPARTMENT OF HEALTH AND HUMAN SERVICES

Administration for Children and Families

Submission for OMB Review; Comment Request

Title: Continued Use of the Low Income Home Energy Assistance Program (LIHEAP) Performance Data Form (LPDF).

OMB No.: 0970-0449.

Description: In response to the 2010 Government Accountability Office (GAO) report, Low Income Home Energy Assistance Program—Greater Fraud Prevention Controls are Needed (GAO-10-621), and in consideration of the recommendations issued by the Low Income Home Energy Assistance Program (LIHEAP) Performance Measures Implementation Work Group, the Office of Community Services (OCS) required the collection and reporting of the new performance measures by state LIHEAP grantees and the District of Columbia. Office of Management and Budget (OMB) approved the LIHEAP Performance Data Form (LPDF) in November 2014 (OMB Clearance No. 0970-0449) which expired on October 31, 2017. The LPDF provides for the collection of the following LIHEAP performance measures which are considered to be developmental as part of the Form.):

1. The benefit targeting index for high burden households receiving LIHEAP fuel assistance;

2. The burden reduction targeting index for high burden households receiving LIHEAP fuel assistance;

3. The number of instances where LIHEAP prevented a potential home energy crisis; and

4. The number of instances where LIHEAP benefits restored home energy.

All State LIHEAP grantees and the District of Columbia are required to complete the LPDF data through the Administration for Children and Families' web-based, data collection and reporting system, the Online Data Collection (OLDC) which is available at https://home.grantsolutions.gov/home. The reporting requirements will be described through OLDC.

The previously OMB-approved LIHEAP Grantee Survey on sources and uses of LIHEAP funds was added in 2014 to the LPDF in addition to the LIHEAP performance data. No substantive changes are being proposed for this data collection activity. A sample of the draft form is available for viewing here: https://www.acf.hhs.gov/ocs/resource/funding-applications.

Module 1. LIHEAP Grantee Survey (Required Reporting)

Module 1 of the LPDF will continue to require the following data from each state for the federal fiscal year:

• Grantee information,

• sources and uses of LIHEAP funds,

• average LIHEAP household benefits, and

• maximum income cutoffs for 4-person households for each type of LIHEAP assistance provided by each grantee for the fiscal year.

Module 2. LIHEAP Performance Measures (Required Reporting)

Module 2 of the LPDF will continue to require the following data from each state for the federal fiscal year:

• Grantee information,

• energy burden targeting,

• restoration of home energy service, and

• prevention of loss of home energy.

Module 3. LIHEAP Performance Measures (Optional Reporting)

Module 3 of the LPDF will continue to voluntarily collect the following additional information from each interested grantee for the federal fiscal year:

• Average annual energy usage,

• Unduplicated number of households using supplemental heating fuel and air conditioning,

• Unduplicated number of households that had restoration of home energy service, and

• Unduplicated number of households that had prevention of loss of home energy.

Based on the data collected in the LPDF:

• ACF will provide reliable and complete LIHEAP fiscal and household data to Congress in the Department's annual LIHEAP Report to Congress.

• ACF will calculate LHEAP performance measures and report the results through the annual budget development process and in LIHEAP's annual Congressional Justification (CJ) under the Government Performance and Results Act of 1993.

• ACF and grantees will be informed about the impact LIHEAP has with respect to LIHEAP households' home energy burden (the proportion of their income spent towards their home heating and cooling bills), including information on the difference between the average recipient and high burden recipients, restoring home energy service, and preventing loss of home energy service.

• ACF will be able to respond to questions on sources and uses of LIHEAP funds from the Congress, Department, OMB, White House, and other interested parties in a timely manner.

• LIHEAP grantees will be able to compare their own results to the results for other states, as well as to regional and national results, through the Data Warehouse of the LIHEAP Performance Management website as they manager their programs.

ACF published a Federal Register notice on October 11, 2017 soliciting 60 days of public comment on the renewal of the LIHEAP Performance Data Form without any changes and the continuation of requiring State grantees and the District of Columbia to collection the data collection annually. No comments were received during this timeframe.

Respondents: 50 State LIHEAP Grantees plus the District of Columbia LIHEAP Grantee are the direct respondents.

The table below shows the estimated annual reporting burden for the LPDF. These estimates are based on a small number of interviews with grantees.

Annual Burden Estimates
Instrument | Number of respondents | Number of responses per respondent | Average burden hours per response | Total burden hours
Module 1: Grantee Survey
Grantees | 51 | 1 | 30 | 1,530
Module 2: Performance Measures
Grantees | 51 | 1 | 150 | 7,650
Sub-Grantees (in states with sub-grantee managed systems) | 100 | 1 | 8 | 800
Large Energy Vendors (largest 5 electric, 5 gas, 10 fuel oil, and 10 propane vendors per state—average) | 1,530 (estimate) | 1 | 8 | 12,240
Total Annual Burden Hours | 1,732 | 1 | Varies | 22,220

Additional Information: Copies of the proposed collection may be obtained by writing to the Administration for Children and Families, Office of Planning, Research and Evaluation, 330 C Street SW, Washington, DC 20201. Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2018-01545 Filed 1-26-18; 8:45 am]

BILLING CODE 4184-01-P